DEPARTMENT OF TRANSPORTATION

Office of the Secretary

Notice of Applications for Certificates of Public Convenience and Necessity and Foreign Air Carrier Permits Filed Under Subpart B (Formerly Subpart Q) During the Week Ending January 5, 2007

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-1996-2016.

Date Filed: January 3, 2007.

Due Date for Answers, Conforming Applications, or Motion to Modify Scope: January 24, 2007.

Description: Application of Continental Airlines, Inc., requesting renewal of its Route 739 certificate to provide scheduled air transportation of persons, property, and mail between Newark and the coterminal points Sao Paulo and Rio de Janeiro, Brazil.

Docket Number: OST-2007-26807.

Date Filed: January 3, 2007.

Due Date for Answers, Conforming Applications, or Motion to Modify Scope: January 24, 2007.

Description: Application of Inter Island Airways, Inc., requesting a certificate of public convenience and necessity authorizing interstate and foreign scheduled air transportation of persons, property, and mail in the following geographic areas: Tutuila Island, American Samoa; Ofu Island and Tau Island of the Manu' a Group in American Samoa; and Maota and Faleolo, Independent State of Samoa.

Renee V. Wright,
Program Manager, Docket Operations, Federal Register Liaison.

[FR Doc. E7-408 Filed 1-12-07; 8:45 am]

BILLING CODE 4910-9X-P